DEPARTMENT OF EDUCATION

National Assessment Governing Board

Notice of Open and Closed Virtual Meetings

AGENCY: National Assessment Governing Board, Department of Education.

ACTION: Notice of meetings.

SUMMARY: This notice sets forth the agenda for National Assessment Governing Board (hereafter referred to as Governing Board) meeting scheduled for May 13-14, 2021. This notice provides information to members of the public who may be interested in accessing the virtual meetings and/or providing written comments related to the work of the Governing Board. Notice of this meeting is required under the Federal Advisory Committee Act (FACA).

ADDRESSES: Virtual meetings.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Standing Committee Meetings

The Governing Board's standing committees will meet to conduct regularly scheduled work based on agenda items planned for this Quarterly Board Meeting and follow-up items as reported in the Governing Board's committee meeting minutes available at https://www.nagb.gov/governing-board/quarterly-board-meetings.html. The meetings will take place prior to the May 13-14, 2021 quarterly Board meeting. The Governing Board website www.nagb.gov will post final dates and times for these working meetings, which are open to the public via online registration 5 working days prior to each meeting.

Monday, May 3, 2021

Committee on Standards, Design & Methodology 12:00 p.m.-2:00 p.m. (Open Session)

Wednesday, May 5, 2021

Executive Committee Meeting 3:00 p.m.-5:00 p.m. (Closed Session)

Friday, May 7, 2021

Assessment Development Committee 5:30 p.m. to 7:30 p.m. (Open Session)

Monday, May 10, 2021

Reporting and Dissemination Committee 10:00 a.m.-12:00 p.m. (Open Session)

Tuesday, May 11, 2021

Nominations Committee (Open Session) 5:30 p.m.-6:30 p.m.

Quarterly Governing Board Meeting

The plenary sessions of the May 13-14, 2021 quarterly meeting of the Governing Board will be held on the following dates and times:

Thursday, May 13, 2021

Open Meeting: 12:30—5:30 p.m.

Friday, May 14, 2021

Closed Meeting: 12:30—5:30 p.m.

May 13, 2021

Open Meetings:

On Thursday, May 13, 2021, the Governing Board will meet in open session from 12:30 p.m. to 5:30 p.m. From 12:30 p.m. to 12:35 p.m. Chair Haley Barbour will welcome members; review and approve the May 13-14, 2021 quarterly Governing Board meeting agenda and approve minutes from the March 4-5, 2021 quarterly Governing Board meeting.

From 12:35 p.m. to 1:00 p.m. Lesley Muldoon, Executive Director, Governing Board will provide an update on ongoing work.

From 1:00 p.m. to 2:15 p.m. the Governing Board will meet in breakout sessions to review and discuss recommendations made by a panel of experts at the March 2021 Governing Board meeting on how NAEP can play a role in national conversations and actions to create more equitable outcomes for students.

After a 15-minute break, from 2:30 p.m. to 4:30 p.m., the Governing Board will meet in open session to engage in a policy discussion on the NAEP Reading Framework led by the Chair and Vice Chair of the Assessment Development Committee. The Governing Board will take a 15-minute break and reconvene from 4:45 p.m. to 5:15 p.m. to receive an update from James Lynn Woodworth, Commissioner, National Center for Education Statistics (NCES) on ongoing work. From 5:15 p.m. to 5:30 p.m. the Governing Board will review a draft resolution to honor Michael Casserly, Executive Director, for his service on behalf of the Council of the Great City Schools, and for his leadership on the Trial Urban District Assessment.

The Thursday, May 13, 2021 session of the Governing Board meeting will adjourn at 5:30 p.m.

May 14, 2021: Closed Meeting:

On Friday, May 14, 2021, the Governing Board meeting will convene in three closed sessions from 12:30 p.m. to 5:30 p.m.

The first closed session will convene from 12:30 p.m. to 1:45 p.m. to receive a briefing from Grady Wilburn, NCES on results from the 2019 NAEP Science Assessment. This session must be closed because results from the 2019 science assessment have not yet been released to the public. Public disclosure of secure data would significantly impede implementation of the NAEP assessment program if conducted in open session. Such matters are protected by exemption 9(B) of § 552b of Title 5 U.S.C.

Following a 15-minute break, the Governing Board will meet in the second closed session from 2:00 p.m. to 4:00 p.m. Peggy Carr and Lesley Muldoon will provide a briefing on the NAEP Budget and Assessment Schedule. The briefing and Governing Board discussions may impact current and future NAEP contracts and budgets and must be kept confidential to maintain the integrity of the federal acquisition process. Public disclosure of this confidential information would significantly impede implementation of the NAEP assessment program if conducted in open session. Such matters are protected by exemption 9(B) of § 552b(c) of Title 5 of the United States Code.

The third and final closed session will convene from 4:00 p.m. to 5:30 p.m. to receive a briefing from Peggy Carr, Associate Commissioner, NCES on Next Generation NAEP. This session must be closed as discussions will focus on planned initiatives that will have contractual implications for eNAEP design, development, and implementation. The discussion will include procurement sensitive and confidential information to include Independent Government Cost Estimates and likely implications to the NAEP Assessment Schedule. Public disclosure of this confidential information would significantly impede implementation of the NAEP assessment program if conducted in open session. Such matters are protected by exemption 9(B) of § 552b(c) of Title 5 of the United States Code.

The May 14, 2021 session of the Governing Board meeting will adjourn at 5:30 p.m.

The Quarterly Board meeting and committee meeting agendas, together with meeting materials shall be posted on the Governing Board's website at www.nagb.gov no later than Friday, May 7, 2021. Participation in all open sessions will be available via online registration only at www.nagb.gov approximately 5 working days prior to each meeting.

Statutory Authority and Function: The Governing Board is established under the National Assessment of Educational Progress Authorization Act, Title III of Public Law 107-279. Information on the Governing Board and its work can be found at www.nagb.gov.

The Governing Board is established to formulate policy for the National Assessment of Educational Progress (NAEP) administered by the National Center for Education Statistics (NCES). The Governing Board's responsibilities include the following: (1) Selecting subject areas to be assessed; (2) developing assessment frameworks and specifications; (3) developing appropriate student achievement levels for each grade and subject tested; (4) developing standards and procedures for interstate and national comparisons; (5) improving the form and use of NAEP; (6) developing guidelines for reporting and disseminating results; and (7) releasing initial NAEP results to the public.

Written comments related to the work of the Governing Board may be submitted electronically or in hard copy to the attention of the Executive Officer/Designated Federal Official (see contact information noted above). Public Participation: The public may attend the open sessions of the standing committee and full Governing Board meetings via advance registration. A link to the registration page will be posted on www.nagb.gov five working days prior to each meeting date.

Access to Records of the Meeting: Pursuant to FACA requirements, the public may also inspect the meeting materials at www.nagb.gov five working days prior to each meeting. The official verbatim transcripts of the public meeting sessions will be available for public inspection no later than 30 calendar days following each meeting.

Reasonable Accommodations: The meeting is accessible to individuals with disabilities. If you will need an auxiliary aid or service to participate in the meeting (e.g., interpreting service, assistive listening device, or materials in an alternate format), notify the contact person listed in this notice no later than ten working days prior to each meeting.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

(Authority: Pub. L. 107-279, Title III—National Assessment of Educational Progress § 301.)

Lesley Muldoon,
Executive Director, National Assessment Governing Board (NAGB), U.S. Department of Education.

[FR Doc. 2021-08790 Filed 4-27-21; 8:45 am]

BILLING CODE 4000-01-P